DEPARTMENT OF ENERGY

Federal Energy Regulatory Commission

Southwest Power Pool, Inc.; Notice of Settlement Conference

DATE: January 19, 2000.

Take notice that a Settlement Conference will be convened to discuss compensation for deferred maintenance costs in Docket No. ER99-4392-000. The Settlement Conference is scheduled for Monday, January 24, 2000, at 10:00 a.m. The Settlement Conference will be held at the Offices of the Federal Energy Regulatory Commission, 888 First Street, NE, Washington, D.C. 20426, for the purpose of exploring settlement of the captioned proceeding.

Any party as defined by 18 CFR 385.102(c), or any participant as defined in 18 CFR 385.102(b), is invited to attend. Persons wishing to become a party must move to intervene and receive intervenor status pursuant to the Commission's regulations (18 CFR 385.214).

For additional information contact Moira Notargiacomo at (202) 208-1079.

David P. Boergers,
Secretary.

[FR Doc. 00-1691 Filed 1-24-00; 8:45 am]

BILLING CODE 6717-01-M